NATIONAL SCIENCE FOUNDATION

Notice of Meeting

The National Science Foundation announces the following meeting:

Name: Interagency Arctic Research Policy Committee (IARPC).

Date and Time: Tuesday, March 1, 2005, 2-3:30 p.m.

Place: National Science Foundation, Room 1235, 4201 Wilson Blvd., Arlington, VA.

Type of Meeting: Closed. The meeting is closed to the public because future fiscal year budgets will be discussed.

Contact Person: Charles E. Myers, Office of Polar Programs, Room 755, National Science Foundation, Arlington, VA 22230, Telephone : (703) 292-8029.

Purpose of Committee: The Interagency Arctic Research Policy Committee was established by Public Law 98-373, the Arctic Research and Policy Act, to help set priorities for future arctic research, assist in the development of national arctic research policy, prepare a multi-agency Plan for arctic research, and simplify coordination of arctic research.

Proposed Meeting Agenda Items:

1. U.S. Arctic Policy Review.

2. International Polar Year (IPY) Research Activities.

3. Discussion of Budget for IPY Activities.

4. Report of the Arctic Research Commission.

Charles E. Myers,
Head, Interagency Arctic Staff, Office of Polar Programs.

[FR Doc. 05-1786 Filed 1-31-05; 8:45 am]

BILLING CODE 7555-01-M